NATIONAL SCIENCE FOUNDATION

National Science Board; Sunshine Act Meetings; Notice

The National Science Board's ad hoc Committee on Nominations for the NSB Class of 2012—2018, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

DATE AND TIME: Tuesday, June 28th at 3 p.m.-4 p.m., EDT.

OPEN SUBJECT MATTER: Discussion of NSB Member Nomination Review Process.

STATUS: Open (3-3:30 p.m.).

CLOSED SUBJECT MATTER: Review of Personnel.

STATUS: Closed (3:30-4 p.m.).

This meeting will be held by teleconference originating at the National Science Board Office, National Science Foundation, 4201 Wilson Blvd., Arlington, VA 22230. For the Open portion of the meeting, a room will be available for the public and NSF staff to listen-in on this teleconference meeting. All visitors must contact the Board Office at least one day prior to the meeting to arrange for a visitor's badge and obtain the room number. Call 703-292-7000 to request your badge, which will be ready for pick-up at the visitor's desk on the day of the meeting. All visitors must report to the NSF visitor desk at the 9th and N. Stuart Streets entrance to receive their visitor's badge on the day of the teleconference.

Please refer to the National Science Board Web site (http://www.nsf.gov/nsb/notices/) for information or schedule updates, or contact: Kim Silverman, National Science Foundation, 4201 Wilson Blvd., Arlington, VA 22230. Telephone: (703) 292-7000.

Ann Ferrante,
Writer-Editor.

[FR Doc. 2011-15783 Filed 6-21-11; 11:15 am]

BILLING CODE 7555-01-P